INTERNATIONAL TRADE COMMISSION

[Inv. No. 337-TA-575]

In the Matter of Certain Lighters; General Exclusion Order

The Commission has previously determined that there is a violation of section 337 of the Tariff Act of 1930 (19 U.S.C. 1337) in the unlawful importation and sale of certain lighters that infringe U.S. Registered Trademark No. 2,606,241.

Having reviewed the record in this investigation, including the written submissions of the parties, the Commission has made its determinations on the issues of remedy, the public interest, and bonding. The Commission has determined that a general exclusion from entry for consumption is necessary to prevent circumvention of an exclusion order limited to products of named persons in that there is a widespread pattern of violation of section 337 and it would be difficult to identify the source of infringing products. Accordingly, the Commission has determined to issue a general exclusion order prohibiting the unlicensed importation of infringing lighters.

The Commission has also determined that the public interest factors enumerated in 19 U.S.C. 1337(d)(1) do not preclude the issuance of that general exclusion order, and that the bond during the Presidential review period shall be in the amount of 100 percent of the entered value of the articles in question.

Accordingly, the Commission hereby orders that:

1. Lighters that infringe U.S. Registered Trademark No. 2,606,241 are excluded from entry for consumption, entry for consumption from a foreign-trade zone, and withdrawal from warehouse for consumption until such date as the trademark is abandoned, canceled, or rendered invalid or unenforceable, except under license of the patent owner or as provided by law.

2. Notwithstanding paragraph 1 of this Order, the aforesaid lighters are entitled to entry into the United States for consumption, entry for consumption from a foreign-trade zone, and withdrawal from warehouse for consumption, under bond in the amount of 100 percent of the entered value of such articles pursuant to subsection (j) of section 337 of the Tariff Act of 1930, as amended, 19 U.S.C. 1337(j), from the day after this Order is received by the United States Trade Representative as delegated by the President, 70 FR 43251 (July 21, 2005), until such time as the United States Trade Representative notifies the Commission that this action is approved or disapproved but, in any event, not later than 60 days after the date of receipt of this action.

3. In accordance with 19 U.S.C. 1337(l), the provisions of this Order shall not apply to lighters imported by and for the use of the United States, or imported for, and to be used for, the United States with the authorization or consent of the Government.

4. Each year on the anniversary of the issuance of this Order, complainants Zippo Manufacturing Company, Inc. and ZippMark, Inc. (collectively, “Zippo”) shall file a written statement with the Commission, made under oath, stating whether they continue to use the aforesaid trademark in commerce in the United States in connection with lighters and whether the aforesaid trademark has been abandoned, canceled, or rendered invalid or unenforceable.

5. The Commission may modify this Order in accordance with the procedure described in section 210.76 of the Commission's Rules of Practice and Procedure (19 CFR 210.76).

6. The Commission Secretary shall serve copies of this Order upon each party of record in this investigation and upon the Department of Health and Human Services, the Department of Justice, the Federal Trade Commission, and Customs and Border Protection.

7. Notice of this Order shall be published in the Federal Register pursuant to section 337(j)(1)(A) of the Tariff Act of 1930 as amended (19 U.S.C 1337(j)(1)(A)) and section 210.49(b) of the Commission's Rules of Practice and Procedure (19 CFR 210.49(b)).

By order of the Commission.
Issued: July 18, 2007.
Marilyn R. Abbott,
Secretary to the Commission.

[FR Doc. E7-14186 Filed 7-23-07; 8:45 am]

BILLING CODE 7020-02-P